DEPARTMENT OF THE INTERIOR

Bureau of Land Management

[CA-310-0777-XG]

Meeting Date Correction for Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Tuesday and Wednesday, Feb. 1 and 2, 2005, in Redding, California. An earlier notice, published in the Federal Register on December 17, 2004 (Volume 69, Number 242)] [Notices] [Page 75561]) incorrectly listed the meeting dates as Feb. 2 and 3, 2005. On Feb. 1, the council members convene at 10 a.m. at the BLM Redding Field Office, 355 Hemsted Dr., and depart immediately for a field tour of projected land exchange sites. Members of the public are welcome on the tour, but they must provide their own transportation and lunch. On Feb. 2, the council convenes at 8 a.m. in the Conference Center at the McConnell Foundation headquarters, 800 Shasta View Drive in Redding. Time for public comment has been set aside for 10:30 a.m. Other meeting details published in the above referenced notice are unchanged.

FOR FURTHER INFORMATION CONTACT: Rich Burns, BLM Ukiah Field Office manager, (707) 468-4000; or BLM Public Affairs Officer Joseph J. Fontana, (530) 252-5332.

Dated: December 17, 2004.
Joseph J. Fontana,
Public Affairs Officer.

[FR Doc. 04-28122 Filed 12-23-04; 8:45 am]

BILLING CODE 4310-40-P